DEPARTMENT OF THE INTERIOR

Bureau of Indian Affairs

Submission of Information Collection to the Office of Management and Budget for Review Under the Paperwork Reduction Act

AGENCY: Bureau of Indian Affairs, Interior.

ACTION: Notice.

SUMMARY: In compliance with the Paperwork Reduction Act, this notice announces that the Bureau of Indian Affairs is submitting an information collection to the Office of Management and Budget for reinstatement. This collection expired during the renewal process. The collection concerns the implementation of the requirements of Indian Reservation Roads program allocation of funds. We are requesting a reinstatement of clearance and requesting comments on this information collection.

DATES: Written comments must be submitted on or before April 26, 2006.

ADDRESSES: You are requested to send any comments to the Desk Officer for the Department of the Interior at OMB-OIRA via facsimile (202) 395-6566 or by e-mail at OIRA_DOCKET@omb.eop.gov.

Please send a copy of any comments to LeRoy Gishi, Chief, Division of Transportation, 1951 Constitution Avenue, NW, Mail Stop Room 320-SIB, Washington, DC 20240; or faxed to (202) 208-6486.

FOR FURTHER INFORMATION CONTACT: LeRoy Gishi, (202) 513-7711.

SUPPLEMENTARY INFORMATION:

I. Abstract

This information collection is necessary to allow federally-recognized tribal governments to participate in the Indian Reservation Roads (IRR) Program as defined in 23 U.S.C. 204(a)(1). Some of the information collected determines the allocation of IRR program funds to Indian tribes as described in 23 U.S.C. 202(d)(2)(A).

II. Request for Comments

A notice announcing the proposed renewal appeared in the Federal Register on September 12, 2005 (70 FR 53809). There were 24 comments received on the notice. The majority of the comments were based on: (1) The road inventory process as defined in the regulations; (2) the software used for input of data into the national database; (3) the estimated cost and burden hours to perform road inventory updates do not reflect the “in the field” efforts; and (4) policies and procedures surrounding the evaluation of required documents for inclusion of roads into the national Indian Reservation Road inventory.

There are current efforts on the part of the agency to further improve the road inventory process. Those comments on assuring that only the required information is collected and not duplicative will be reviewed and will be forthcoming in a policy update regarding the minimum requirements for attachments. The attachments are those stated in 25 CFR part 170.

The agency is updating the software (exclusively used by the agency and not the public) to reflect only the required information found in regulatory language. There is currently a court order prohibiting access by the public to systems administered by the Bureau of Indian Affairs, Department of the Interior. This prohibition extends to the software used to update the national road inventory database. Although it is not anticipated that this will change at any time in the near future, if it does, specific procedures on how the public may utilize the update software will be provided through program guidance and policies.

Based on the comments, a number of tribal transportation planners, BIA staff and consultants performing work for the tribes and the BIA were queried for an estimate of cost and burden hours to perform the inventory update for their average type of submission. One consultant estimated that the cost and time of updating the inventory for tribes located in rural areas of Montana, New Mexico, and Oklahoma was on the average of about $200/mile and about 60 days per 100 miles. This translates to about $14/hour and 14.4 hours per mile of update. Primary factors affecting this estimate are number of bridges, number of city streets and number of sections that are inventoried. Another tribal consultant working with tribes in 7 of the 12 BIA regions estimated the average cost at $413/mile. This ranges from a low of $85/mile to a high of $1,612/mile. Primary factors affecting this estimate are roadway surface type, class of road, location, terrain, and average daily traffic (ADT). A tribal engineer working in an urban setting in California estimated the cost at $60/hour and the time as 22 hours per submission (average of ½ mile) or a total cost of $1,320/mile. Primary factors affecting this estimate are the number of jurisdictions or facility ownerships that require coordination. This translates to time and effort of determining construction and maintenance responsibilities, getting tribal resolutions and formal acknowledgement from the various jurisdictions (including tribal governments). We accepted these comments and revised our burden estimates accordingly.

Most of the comments centered on the regulatory requirements of 25 CFR part 170. These comments will be considered as part of the regulatory update for 25 CFR part 170, Indian Reservation Roads Program, when they are published to include the recent statutory changes in Title 23 U.S.C., as a result of the Safe Accountable Flexible Efficient Transportation Equity Act—A Legacy for Users (SAFETEA-LU), Public Law 109-59, August 10, 2005. This update of the regulations will be coordinated with the Federal Highway Administration as required in statute (23 U.S.C. 204(f)).

The Department of the Interior invites comments on:

(a) Whether the collection of information is necessary for the proper performance of the functions of the agency, including whether the information will have practical utility;

(b) The accuracy of the agency's estimate of the burden (including the hours and cost) of the proposed collection of information, including the validity of the methodology and assumption used;

(c) Ways to enhance the quality, utility, and clarity of the information to be collected; and

(d) Ways to minimize the burden of the collection of information on those who are to respond, including through the use of appropriate automated, electronic, mechanical, or other collection techniques or other forms of information technology.

Burden means the total time, effort, or financial resources expended by persons to generate, maintain, retain, or disclose or provide information to or for a Federal agency. This includes the time needed to review instructions; to develop, acquire, install and utilize technology and systems for the purpose of collecting, validating, and verifying information, processing and maintaining information, and disclosing and providing information, to search data sources, to complete and review the collection of information; and to transmit or otherwise disclose the information.

We will not request nor sponsor a collection of information, and you need not respond to such a request, if there is no valid Office of Management and Budget Control Number.

III. Data

Title: 25 CFR part 170, Indian Reservation Roads.

OMB control number: 1076-0161.

Type of Review: Reinstatement.

Description: This is a request for reinstatement of information collection requirements of 25 CFR part 170, Roads of the Bureau of Indian Affairs. Part 170 implements 23 U.S.C. 202(d) and sets policies and procedures governing the Indian Reservation Roads (IRR) Program. This information collection is necessary to implement the requirements of the law which allocates funding provided from the highway trust fund to Indian tribal governments.

Respondents: Respondents include federally-recognized Indian tribal governments who have transportation needs associated with the IRR Program as described in 25 CFR 170.

Total Number of Respondents: 562.

Estimated Time per Response: The reports require from 5 hours to 40 hours to complete. An average would be 16 hours.

Frequency of Response: Annually or on an as needed basis.

Total Number of Annual Responses: 5,620.

Total Annual Burden Hours: 191,496.

Dated: March 17, 2006.
Michael D. Olsen,
Acting Principal Deputy Assistant Secretary—Indian Affairs.

[FR Doc. E6-4324 Filed 3-24-06; 8:45 am]

BILLING CODE 4310-LY-P